ENVIRONMENTAL PROTECTION AGENCY

40 CFR Part 52

[DC052-7007, MD143-3102, VA129-5065; FRL-7499-9]

Approval and Promulgation of Air Quality Implementation Plans; District of Columbia, Maryland, Virginia; Post 1996 Rate-of-Progress Plans and One-Hour Ozone Attainment Demonstrations; Correction

AGENCY: Environmental Protection Agency (EPA).

ACTION: Final rule; correcting amendment.

SUMMARY: This document corrects an error and clarifies the preamble language of EPA's conditional approval of the severe ozone nonattainment area State Implementation Plan (SIP) revisions for the Metropolitan Washington severe ozone nonattainment area. This document also corrects several typographical errors in the preamble language of this conditional approval.

EFFECTIVE DATE: May 19, 2003.

FOR FURTHER INFORMATION CONTACT: Christopher Cripps, (215) 814-2179, or by e-mail at cripps.christopher.@epa.gov.

SUPPLEMENTARY INFORMATION: Throughout this document wherever “we,” or “our” are used we mean EPA.

Date Conditional Approval Might Convert to Disapproval

On April 17, 2003, (68 FR 19106), we published a final rulemaking action announcing our conditional approval of severe ozone nonattainment area State Implementation Plan (SIP) revision for the Metropolitan Washington severe ozone nonattainment area. In the final rule language which is found on page 19131 of the April 17, 2003, final rule, EPA conditionally approved each Washington area jurisdiction's severe area SIP revisions contingent on that jurisdiction submitting SIP revisions by April 17, 2004 that satisfy certain conditions enumerated in the final rule text. In the second sentence of the Final Action section of the preamble on page 19130 in the first column of this April 17, 2003, final rule, EPA inadvertently stated that “[s]hould the Washington area jurisdictions fail to fulfill these conditions by May 19, 2003, this conditional approval will convert to a disapproval pursuant to Clean Air Act (CAA) section 110(k).” EPA intended that if a Washington area jurisdiction should fail to meet any condition for approval within one-year from the publication date of the final rule, i.e., by April 17, 2004, the conditional approval would convert to a disapproval pursuant to CAA section 110(k). EPA did not intend that the date triggering disapproval pursuant to 110(k) of the CAA would be the May 19, 2003, effective date of the April 17, 2003 final action, which is nearly eleven months before the due date set forth in the text of the April 17, 2003, final rule. As stated above, EPA intended that should the Washington area jurisdictions fail to fulfill these conditions by April 17, 2004, the conditional approval will convert to a disapproval pursuant to CAA section 110(k).

In the preamble to the final rule published on April 17, 2003, on page 19130, in the first column, the second sentence of the Final Action section is corrected to read: “Should the Washington area jurisdictions fail to fulfill these conditions by April 17, 2004, this conditional approval will convert to a disapproval pursuant to CAA section 110(k).”

Typographical Errors

In the preamble to the final rule published in the Federal Register on April 17, 2003, on page 19120 in the second column, and on page 19122 in the first column, EPA incorrectly cited as 68 FR 3210 the volume and page numbers for the January 24, 2003, final action that reclassified the Washington area to severe nonattainment. The correct citation is 68 FR 3410, January 24, 2003.

In the preamble to the final rule published in the Federal Register on April 17, 2003, on page 19109 in the first column, and on page 19129 in the third column, EPA incorrectly stated the proposed rule for the April 17, 2003, final rule was published on February 4, 2003. The correct date is February 3, 2003 (68 FR 5246).

In the preamble to the final rule published in the Federal Register on April 17, 2003, on page 19126 in the third column, EPA incorrectly stated the publication date for 67 FR 21867 as May 1, 2000. The correct date is May 1, 2002 (67 FR 21867).

In the preamble to the final rule published in the Federal Register on April 17, 2003, on page 19117 in the first column, we presented a summary of air quality data to date. On page 19117 in the first column, EPA stated that “[a]nother one of these seven has data for the last 123 days of the ozone season (July 1, 2003, through October 31, 2003 inclusive)”. EPA was referring to monitoring data for July 1, 2002 through October 31, 2002 not for July 1, 2003, through October 31, 2003.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Statutory and Executive Order Reviews

Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C. 601 et seq), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of May 19, 2003. EPA will submit a report containing this rule and other required information to the U.S. Senate, the U.S. House of Representatives, and the Comptroller General of the United States prior to publication of the rule in the Federal Register. This correction to the April 17, 2003, final rule (68 FR 19106) for the District of Columbia, Maryland, and Virginia is not a “major rule” as defined by 5 U.S.C. 804(2).

Dated: May 9, 2003.
Donald S. Welsh,
Regional, Administrator, Region III.

[FR Doc. 03-12473 Filed 5-15-03; 8:45 am]

BILLING CODE 6560-50-P